DEPARTMENT OF TRANSPORTATION

Federal Aviation Administration

14 CFR Part 39

[Docket No. FAA-2014-0190; Directorate Identifier 2012-NM-188-AD]

RIN 2120-AA64

Airworthiness Directives; Airbus Airplanes

AGENCY: Federal Aviation Administration (FAA), DOT.

ACTION: Notice of proposed rulemaking (NPRM).

SUMMARY: We propose to supersede airworthiness directive (AD) 2011-17-08, which applies to all Airbus Model A330-200 series airplanes, Model A330-200 Freighter series airplanes, and Model A330-300 series airplanes. AD 2011-17-08 currently requires revising the maintenance program by incorporating certain Airworthiness Limitation Items (ALIs). Since we issued AD 2011-17-08, Airbus has revised a certain ALI document, which specifies more restrictive instructions and/or airworthiness limitations. This proposed AD would revise the maintenance or inspection program, as applicable, to incorporate new or revised structural inspection requirements. We are proposing this AD to detect and correct fatigue cracking, damage, and corrosion in certain structure, which could result in reduced structural integrity of the airplane.

DATES: We must receive comments on this proposed AD by May 23, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0190; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2014-0190; Directorate Identifier 2012-NM-188-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On August 2, 2011, we issued AD 2011-17-08, Amendment 39-16772 (76 FR 53303, August 26, 2011), which superseded AD 2006-09-07, Amendment 39-14577 (71 FR 25919, May 3, 2006). AD 2011-17-08 required actions intended to address an unsafe condition on the products listed above.

Since we issued AD 2011-17-08, Amendment 39-16772 (76 FR 53303, August 26, 2011), the European Aviation Safety Agency (EASA), which is the Technical Agent for the Member States of the European Community, has issued EASA Airworthiness Directive 2012-0211, dated October 12, 2012 (referred to after this as the Mandatory Continuing Airworthiness Information, or “the MCAI”), to correct an unsafe condition for the specified products. The MCAI states:

The airworthiness limitations are currently defined and published in the Airbus A330 Airworthiness Limitations Section (ALS).

The airworthiness limitations applicable to the Damage Tolerant Airworthiness Limitation Items (DT ALI) are currently specified in Airbus A330 ALI, Airbus Document reference AI/SE-M4/95A.0089/97, which is approved by EASA and referenced in Airbus ALS Part 2.

Issue 19 of the Airbus A330 ALI Document introduces more restrictive maintenance requirements and/or airworthiness limitations. Failure to comply with the relevant instructions could result in an unsafe condition.

For the reasons described above, this [EASA] AD retains the requirements of EASA AD 2010-0174 [http://ad.easa.europa.eu/blob/easa_ad_2010_0174_superseded.pdf/AD_2010-0174_1] [which corresponds to FAA AD 2011-17-08, Amendment 39-16772 (76 FR 53303, August 26, 2011)], which is superseded, and requires the implementation of the new or more restrictive maintenance instructions and/or airworthiness limitations as specified in Airbus A330 ALI Document reference AI/SE-M4/95A.0089/97 issue 19.

The unsafe condition is fatigue cracking, damage, and corrosion in certain structure, which could result in reduced structural integrity of the airplane. You may examine the MCAI in the AD docket on the Internet at http://www.regulations.gov by searching for and locating it in Docket No. FAA-2014-0190.

Relevant Service Information

Airbus has issued the following service information.

• Airbus Document AI/SE-M4/95A.0089/97, “A330 Airworthiness Limitation Items,” Issue 19, dated March 23, 2012.

• Variations to Airbus Document AI/SE M4/95A.0089/97, “A330 Airworthiness Limitation Items,” Issue 19, dated March 23, 2012 (variations reference 0GVLG120018/C0S, dated October 24, 2012.

• Variation to Airbus Document AI/SE M4/95A.0089/97, “A330 Airworthiness Limitation Items,” Issue 19, dated March 23, 2012 (variation reference 0GVLG120022/C0S, dated December 21, 2012).

• Variations to Airbus Document AI/SE M4/95A.0089/97, “A330 Airworthiness Limitation Items,” Issue 19, dated March 23, 2012 (variations reference 0GVLG130002/C01, dated March 26, 2013).

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (l)(1) of this proposed AD. The request should include a description of changes to the required actions that will ensure the continued damage tolerance of the affected structure.

Costs of Compliance

We estimate that this proposed AD affects 30 airplanes of U.S. registry.

The actions that are required by AD 2011-17-08, Amendment 39-16772 (76 FR 53303, August 26, 2011), and retained in this proposed AD take about 1 work-hour per product, at an average labor rate of $85 per work-hour. Based on these figures, the estimated cost of the actions that were required by AD 2011-17-08 is $85 per product.

We also estimate that it would take about 1 work-hour per product to comply with the basic requirements of this proposed AD. The average labor rate is $85 per work-hour. Based on these figures, we estimate the cost of this proposed AD on U.S. operators to be $2,550, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. Amend § 39.13 by removing airworthiness directive (AD) 2011-17-08, Amendment 39-16772 (76 FR 53303, August 26, 2011), and adding the following new AD:

Airbus: Docket No. FAA-2014-0190; Directorate Identifier 2012-NM-188-AD.

(a) Comments Due Date

We must receive comments by May 23, 2014.

(b) Affected ADs

This AD supersedes AD 2011-17-08, Amendment 39-16772 (76 FR 53303, August 26, 2011).

(c) Applicability

This AD applies to Model A330-201, -202, -203, -223, -223F, -243, -243F, -301, -302, -303, -321, -322, -323, -341, -342, and -343 airplanes; certificated in any category; all manufacturer serial numbers.

(d) Subject

Air Transport Association (ATA) of America Code 05, Periodic inspections.

(e) Reason

This AD was prompted by a revision of certain airworthiness limitations items (ALI) documents, which specify more restrictive instructions and/or airworthiness limitations. We are issuing this AD to detect and correct fatigue cracking, damage, and corrosion in certain structure, which could result in reduced structural integrity of the airplane.

(f) Compliance

Comply with this AD within the compliance times specified, unless already done.

(g) Retained Maintenance Program Revision

This paragraph restates the requirements of paragraph (h) of AD 2011-17-08, Amendment 39-16772 (76 FR 53303, August 26, 2011). Within 3 months after September 30, 2011 (the effective date of this AD 2011-17-08): Revise the maintenance program by incorporating Airbus Document AI/SE-M4/95A.0089/97, “A330 Airworthiness Limitation Items,” Issue 17, dated May 28, 2010. At the times specified in Airbus Document AI/SE-M4/95A.0089/97, “A330 Airworthiness Limitation Items,” Issue 17, dated May 28, 2010, comply with all applicable maintenance requirements and associated airworthiness limitations included in Airbus Document AI/SE-M4/95A.0089/97, “A330 Airworthiness Limitation Items,” Issue 17, dated May 28, 2010.

(h) Retained Requirement: No Alternative Intervals or Limits

This paragraph restates the requirements of paragraph (i) of AD 2011-17-08, Amendment 39-16772 (76 FR 53303, August 26, 2011). Except as provided by paragraphs (i) and (k)(1) of this AD, after accomplishing the actions specified in paragraph (g) of this AD, no alternatives to the maintenance tasks, intervals, or limitations specified in paragraph (g) of this AD may be used.

(i) New Maintenance or Inspection Program Revision

(1) Within 3 months after the effective date of this AD: Revise the maintenance or inspection program, as applicable, by incorporating Airbus Document AI/SE-M4/95A.0089/97, “A330 Airworthiness Limitation Items,” Issue 19, dated March 23, 2012; and Variations to Airbus Document AI/SE M4/95A.0089/97, “A330 Airworthiness Limitation Items,” Issue 19, dated March 23, 2012 (variations reference 0GVLG120018/C0S, dated October 24, 2012; and 0GVLG130002/C01, dated March 26, 2013).

(2) Comply with all applicable instructions and airworthiness limitations included in Airbus Document AI/SE M4/95A.0089/97, “A330 Airworthiness Limitation Items,” Issue 19, dated March 23, 2012; and Variations to Airbus Document AI/SE M4/95A.0089/97, “A330 Airworthiness Limitation Items,” Issue 19, dated March 23, 2012 (variations reference 0GVLG120018/C0S, dated October 24, 2012; and 0GVLG130002/C01, dated March 26, 2013). The initial compliance times for the actions specified Airbus Document AI/SE-M4/95A.0089/97, “A330 Airworthiness Limitation Items,” Issue 19, dated March 23, 2012; and Variations to Airbus Document AI/SE M4/95A.0089/97, “A330 Airworthiness Limitation Items,” Issue 19, dated March 23, 2012 (variations reference 0GVLG120018/C0S, dated October 24, 2012; and 0GVLG130002/C01, dated March 26, 2013); are at the times specified in Airbus Document AI/SE-M4/95A.0089/97, “A330 Airworthiness Limitation Items,” Issue 19, dated March 23, 2012; and Variations to Airbus Document AI/SE M4/95A.0089/97, “A330 Airworthiness Limitation Items,” Issue 19, dated March 23, 2012 (variations reference 0GVLG120018/C0S, dated October 24, 2012; and 0GVLG130002/C01, dated March 26, 2013); or within 3 months after the effective date of this AD, whichever occurs later. Accomplishing the revision in this paragraph ends the requirements in paragraph (g) of this AD.

(j) New Optional Compliance

Compliance with the tasks 533021-02-01, 533021-02-02, 533021-02-03 specified in Variation to Airbus Document AI/SE M4/95A.0089/97, “A330 Airworthiness Limitation Items,” Issue 19, dated March 23, 2012 (variation reference 0GVLG120022/C0S, dated December 21, 2012), may be used as a method of compliance to tasks 533021-01-01, 533021-01-02, 533021-01-03 specified in Section 2.2.1 and 2.2.2 of Airbus Document AI/SE M4/95A.0089/97, “A330 Airworthiness Limitation Items,” Issue 19, dated March 23, 2012.

(k) New Requirement: No Alternative Intervals or Limits

Except as provided by paragraph (j) of this AD, after the maintenance or inspection program has been revised as required by paragraph (i) of this AD, no alternative actions (e.g., inspections) or intervals may be used unless the actions or intervals are approved as an alternative method of compliance (AMOC) in accordance with the procedures specified in paragraph (l)(1) of this AD.

(l) Other FAA AD Provisions

The following provisions also apply to this AD:

(1) Alternative Methods of Compliance (AMOCs): The Manager, International Branch, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously for AD 2011-17-08, Amendment 39-16772 (76 FR 53303, August 26, 2011), are approved as AMOCs for the corresponding provisions of paragraph (g) of this AD.

(2) Airworthy Product: For any requirement in this AD to obtain corrective actions from a manufacturer or other source, use these actions if they are FAA-approved. Corrective actions are considered FAA-approved if they are approved by the State of Design Authority (or its delegated agent, or the DAH with a State of Design Authority's design organization approval, as applicable). You are required to assure the product is airworthy before it is returned to service.

(m) Related Information

(1) Refer to Mandatory Continuing Airworthiness Information (MCAI) European Aviation Safety Agency Airworthiness Directive 2012-0211, dated October 12, 2012, for related information. This MCAI may be found in the AD docket on the Internet at http://www.regulations.gov by searching for and locating it in Docket No. FAA-2014-0190.

(2) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Issued in Renton, Washington, on March 28, 2014.
Jeffrey E. Duven,
Manager, Transport Airplane Directorate, Aircraft Certification Service.

[FR Doc. 2014-07799 Filed 4-7-14; 8:45 am]

BILLING CODE 4910-13-P